LIBRARY OF CONGRESS

Copyright Office

37 CFR Part 202

[Docket No. 2012-3]

Registration of Copyright: Definition of Claimant

AGENCY: Copyright Office, Library of Congress.

ACTION: Notice of Proposed Rulemaking: Extension of Reply Comment Period.

SUMMARY: The Copyright Office is extending the reply comment period on the proposed rule to amend its regulations governing the definition of a “claimant” for purposes of copyright registration by eliminating the footnote to the definition of a “claimant” in § 202.3(a)(3)(ii).

DATES: Reply comments must be received in the Copyright Office no later than 5:00 p.m. Eastern Daylight Time (EDT) on October 4, 2012.

ADDRESSES: The Copyright Office strongly prefers that comments be submitted electronically. A comment page containing a comment form is posted on the Copyright Office Web site at http://www/copyright.gov/docs/claimantfn. The online form contains fields for required information including the name and organization of the commenter, as applicable, and the ability to upload comments as an attachment. To meet accessibility standards, all comments must be uploaded in a single file in either the Adobe Portable Document File (PDF) format that contains searchable, accessible text (not an image); Microsoft Word; WordPerfect; Rich Text Format (RTF); or ASCII text file format (not a scanned document). The maximum file size is 6 megabytes (MB). The names of the submitter and, if applicable, the organization should appear on both the form and the face of the comments. All comments will be posted publicly on the Copyright Office Web site exactly as they are received, along with names and organizations. If electronic submission of comments is not feasible, please contact the Copyright Office at 202-707-8380 for special instructions.

FOR FURTHER INFORMATION CONTACT: Robert Kasunic, Deputy General Counsel, Copyright Office, GC/I&R, P.O. Box 70400, Washington, DC 20024. Telephone: (202) 707-8380. Fax: (202) 707-8366.

SUPPLEMENTARY INFORMATION: On May 17, 2012, the Copyright Office published a Notice of Proposed Rulemaking seeking comments on its proposal to amend the definition of a “claimant” by removing the footnote to the definition in § 202.3(a)(3)(ii). In response to this Notice, the Copyright Office received three comments that are posted on the Office's Web site at: http://www.copyright.gov/docs/claimantfn/comments/index.html.

At the conclusion of the comment period, the online comment submission form was removed from the Web site and was not replaced with a reply comment submission form during the established reply comment period. Although the Office is not aware of any attempts to submit a reply comment, the Copyright Office is extending the reply comment period in this rulemaking for an additional 30 days as a result of the error with the submission form, and invites replies to the initial comments submitted.

Dated: August 29, 2012.
David O. Carson,
General Counsel.

[FR Doc. 2012-21703 Filed 8-31-12; 8:45 am]

BILLING CODE 1410-30-P